DEPARTMENT OF COMMERCE

International Trade Administration

[A-570-825]

Sebacic Acid From the People's Republic of China: Final Results of Antidumping Duty Administrative Review

AGENCY: Import Administration, International Trade Administration, Department of Commerce.

SUMMARY: On August 5, 2004, the Department of Commerce (the Department) published the preliminary results of the 2002-2003 administrative review of the antidumping duty order on sebacic acid from the People's Republic of China (PRC). See Sebacic Acid From the People's Republic of China: Preliminary Results of Antidumping Duty Administrative Review, 69 FR 47409 (August 05, 2004) (Preliminary Results). On August 31, 2004, the Department issued a Memorandum to the File from Jennifer Moats entitled “Analysis for the Post-Preliminary Calculation of Sebacic Acid from the People's Republic of China: Guangdong Chemicals Import and Export Corporation” to correct an error it made in the Preliminary Results. This review covers subject merchandise exported by Guangdong Chemicals Import and Export Corporation (Guangdong). The products covered by this order are all grades of sebacic acid which include but are not limited to CP Grade, Purified Grade, and Nylon Grade (see Scope of the Review section below). The period of review is July 1, 2002, through June 30, 2003. Based on our analysis of the comments received, we have made changes in the margin calculation. Therefore, the final results differs from the preliminary results. We determine that Guangdong has sold subject merchandise at less than normal value (NV). The final weighted-average dumping margin is listed below in the section entitled “Final Results of Review.”

EFFECTIVE DATE: December 16, 2004.

FOR FURTHER INFORMATION CONTACT: Jennifer Moats or Brian Ledgerwood, China/NME Group, AD/CVD Operations, Office 8, Import Administration, International Trade Administration, U.S. Department of Commerce, 14th Street and Constitution Avenue, NW., Washington, DC 20230; telephone: (202) 482-5047 or (202) 482-3836, respectively.

SUPPLEMENTARY INFORMATION:

Background

On August 5, 2004, the Department published in the Federal Register the preliminary results of administrative review of the antidumping duty order on sebacic acid from the PRC. See Preliminary Results. In the Preliminary Results, in accordance with 19 CFR 351.213(d)(3) and consistent with our practice, we preliminarily rescinded the review of the antidumping duty order on sebacic acid from the PRC for the period of July 1, 2002, through June 30, 2003, with respect to subject merchandise exported to the United States by Tianjin Chemical Import and Export Corporation. On August 31, 2004, the Department issued a Memorandum to the File from Jennifer Moats entitled “Analysis for the Post-Preliminary Calculation of Sebacic Acid from the People's Republic of China: Guangdong Chemicals Import and Export Corporation” to correct an error made in the Preliminary Results. This review covers subject merchandise exported by Guangdong. The POR is July 1, 2002, through June 30, 2003.

We invited interested parties to comment on the preliminary results of review. The Department has conducted this administrative review in accordance with section 751 of the Tariff Act of 1930, as amended (the Act).

Scope of the Review

The products covered by this order are all grades of sebacic acid, a dicarboxylic acid with the formula (CH2)8(COOH)2, which include but are not limited to CP Grade (500 ppm maximum ash, 25 maximum APHA color), Purified Grade (1000 ppm maximum ash, 50 maximum APHA color), and Nylon Grade (500 ppm maximum ash, 70 maximum ICV color). The principle difference between the grades is the quantity of ash and color. Sebacic acid contains a minimum of 85 percent dibasic acids of which the predominant species is the C10 dibasic acid. Sebacic acid is sold generally as a free-flowing powder/flake.

Sebacic acid has numerous industrial uses, including the production of nylon 6/10(a polymer used for paintbrush and toothbrush bristles and paper machine felts), plasticizers, esters, automotive coolants, polyamides, polyester castings and films, inks and adhesives, lubricants, and polyurethane castings and coatings.

Sebacic acid is currently classifiable under subheading 2917.13.00.30 of the Harmonized Tariff Schedule of the United States (HTSUS). Although the HTSUS subheading is provided for convenience and customs purposes, our written description of the scope of this proceeding is dispositive.

Separate Rates

Guangdong has requested a separate, company-specific antidumping duty rate. In the Preliminary Results, we found that Guangdong met the criteria for the application of a separate antidumping duty rate. We have not received any other information since the Preliminary Results which would warrant reconsideration of our separate-rate determination with respect to Guangdong. Therefore, we determine that Guangdong should be assigned an individual dumping margin in this administrative review.

Analysis of Comments Received

All issues raised in the case briefs by parties to this administrative review are addressed in the “Issues and Decision Memorandum” (Decision Memo) from Barbara E. Tillman, Acting Deputy Assistant Secretary for Import Administration, to James J. Jochum, Assistant Secretary for Import Administration, dated December 10, 2004, which is adopted by this notice. A list of the issues which parties have raised and to which we have responded, all of which are in the Decision Memo, is attached to this notice as an appendix. Parties can find a complete discussion of all issues raised in this review and the corresponding recommendations in this public memorandum, which is on file in the Central Record Unit, room B-099, of the main Commerce building.

In addition, a complete version of the Decision Memo can be accessed directly on the Web at http://www.ia.ita.doc.gov/frn/summary/countrylist.htm under the heading “China.” The paper copy and electronic version of the Decision Memo are identical in content.

Changes Since the Preliminary Results

Based on our analysis of comments received, we have made certain changes in the margin calculations. These changes are discussed in the relevant sections of the Decision Memo.

Specifically, for these final results, we have revalued activated carbon with a more type-specific price quote consistent with our practice, revalued labor with updated labor statistics, revalued capryl alcohol with a more recently submitted value for octanol, and made the necessary corrections for clerical errors in the Preliminary Results.

Final Results of Review

We determine that the following weighted-average margin percentages exist for the period July 1, 2002, through June 30, 2003:

Manufacturer/exporter | Margin (percent)
Guangdong Chemicals Import and Export Corporation | 29.87

Assessment Rates

The Department will determine, and U.S. Customs and Border Protection (CBP) shall assess, antidumping duties on all appropriate entries. For assessment purposes, we do not have the information to calculate an estimated entered value. Accordingly, we have calculated importer/customer-specific duty assessment rates for the subject merchandise by aggregating the dumping margins calculated for all U.S. sales and dividing this amount by the total quantity of those sales. To determine whether the duty-assessment rates were de minimis, in accordance with the requirement set forth in 19 CFR 351.106(c)(2), we calculated importer/customer-specific ad valorem ratios based on the export prices. We will direct the CBP to assess the resulting assessment rates uniformly on all entries of that particular importer/customer made during the POR. Pursuant to 19 CFR 351.106(c)(2), we will instruct the CBP to liquidate without regard to antidumping duties any entries for which the assessment rate is de minimis (i.e., less than 0.50 percent). The Department will issue appropriate assessment instructions directly to CBP within 15 days of publication of these final results of review.

Cash Deposit Requirements

The following deposit requirements will be effective upon publication of this notice of final results of administrative review for all shipments of the subject merchandise from the PRC entered, or withdrawn from warehouse, for consumption on or after the publication date, as provided by section 751(a)(1) of the Act: (1) The cash deposit rate for Guangdong will be 29.87 percent; (2) for a company previously found to be entitled to a separate rate and for which no review was requested, the cash deposit rate will be the rate established in the most recent review of that company; (3) the cash deposit rate for the NME/PRC entity will continue to be the NME/PRC-wide rate (i.e., 243.40 percent); and (4) the cash deposit rate for non-PRC exporters of subject merchandise from the PRC will be the rate applicable to the PRC exporter/producer that supplied that non-PRC exporter. These requirements shall remain in effect until publication of the final results of the next administrative review. There are no changes to the rates applicable to any other companies under this antidumping duty order.

Notification to Interested Parties

The Department will disclose calculations performed in connection with the final results of review within five days of the date of publication of this notice in accordance with 19 CFR 351.224(b) of its regulations. This notice serves as a final reminder to importers of their responsibility under 19 CFR 351.402(f) to file a certificate regarding the reimbursement of antidumping duties prior to liquidation of the relevant entries during this review period. Failure to comply with this requirement could result in the Secretary's presumption that reimbursement of antidumping duties occurred and subsequent assessment of double antidumping duties.

This notice also serves as a reminder to parties subject to administrative protective orders (APO) of their responsibility concerning the disposition of proprietary information disclosed under APO in accordance with 19 CFR 351.305(a)(3) of the Department's regulations. Timely written notification of the return/destruction of APO materials or conversion to judicial protective order is hereby requested. Failure to comply with the regulations and the terms of an APO is a sanctionable violation.

We are issuing and publishing this determination and notice in accordance with section 751(b)(1) and 777(i)(1) of the Act.

Dated: December 10, 2004.
James J. Jochum,
Assistant Secretary for Import Administration.

Appendix—Issues in Decision Memo

Comments

1. Valuation of Sebacic Acid

2. Valuation of Activated Carbon

3. Valuation of Capryl Alcohol

4. Valuation of Castor Oil

5. Methodology for Calculation of Co-Product Ration

6. Selection of Surrogate Financial Ratios

7. Correction of Clerical Errors

[FR Doc. E4-3678 Filed 12-15-04; 8:45 am]

BILLING CODE 3510-DS-P